TENNESSEE VALLEY AUTHORITY

Privacy Act of 1974; Computer Matching Program

AGENCY: Tennessee Valley Authority.

ACTION: Notice of computer matching program.

SUMMARY: Pursuant to the Privacy Act of 1974 5 U.S.C. 552(a), as amended by the Computer Matching and Privacy Protection Act of 1988 (Pub. L. 100-503), and the Computer Matching and Privacy Protection Amendments of 1990 (Pub. L. 101-508), and the Office of Management and Budget's Guidelines on the Conduct of Matching Programs, notice is hereby given that the Tennessee Valley Authority (TVA) proposes to conduct a computer match program. The program will match United States Department of Labor (DOL), Office of Workers' Compensation Program (OWCP) records against records of claims paid under TVA self-insured medical and pharmacy plans. This information will be used to identify individuals who may have received improper duplicate medical reimbursements under a TVA self-insured medical plan and the Federal Employees' Compensation Act (FECA). No action will be taken based on the results of the match alone; rather, TVA and/or OWCP will evaluate the results of the match and other relevant information to help identify and/or recover any erroneous payments to either individuals or medical providers.

EFFECTIVE DATE: This proposed action will become effective June 11, 2001, and the computer matching will proceed accordingly without further notice, unless comments are received which would result in a contrary determination or if the Office of Management and Budget or Congress objects thereto. Any public comment must be received before the effective date.

ADDRESSES: Any interested party may submit written comments to Wilma H. McCauley, Privacy Act Officer, TVA, 1101 Market Street (EB 5B), Chattanooga, Tennessee 37402. As a convenience to commenters, TVA will accept public comments transmitted by facsimile at (423) 751-3400 or e-mail at whmccauley@tva.gov. Receipt of FAX or e-mail transmittals will not be acknowledged.

FOR FURTHER INFORMATION CONTACT: W. H. McCauley, TVA Privacy Act Officer, (423) 751-2523.

SUPPLEMENTARY INFORMATION: TVA and OWCP intend to conduct a computer matching program for the purposes stated below. This notice meets the publication requirements under subsection (e)(912) of the Privacy Act of 1974, as amended. A copy of the computer matching agreements and a copy of this notice have been transmitted to the Office of Management and Budget, the U.S. House of Representatives, and the U.S. Senate.

Set forth below is a description of the matching program.

Report of Computer Matching Program Between TVA and OWCP

A. Participating Agencies

TVA is the recipient agency and will coordinate the computer matches with records provided by OWCP and the administrator of the TVA self-insured medical plan for the purpose of the match.

B. Purposes of the Match

The computer matching program involves the U.S. Department of Labor (DOL), Office of Workers' Compensation Programs (OWCP), and the Tennessee Valley Authority (TVA), Office of the Inspector General (OIG). The purpose of the matching program is: To match medical claims paid under the Federal Employees' Compensation Act (FECA), 5 U.S.C. ( 8101 et seq., with claims paid under TVA self-insured medical and pharmacy plans. This information will be used to identify individuals who may have received improper duplicate medical reimbursements under TVA self-insured medical and pharmacy plans and FECA. No action will be taken based on the results of the match alone; rather, TVA and/or OWCP will evaluate the results of the match and other relevant information to help identify and/or recover any erroneous payments to either individuals or medical providers.

C. Authority for Conducting Matching Program.

The authority for undertaking this match is found in FECA, 5 U.S.C. ( 8101 et seq.; the Tennessee Valley Authority Act, 16 U.S.C. ( 831 et seq.; and the Inspector General Act, 5 U.S.C. App.

D. Categories of Individuals and Identification of Records to be Matched.

The DOL system of records published as DOL/GOVT-1, Office of Workers' Compensation Programs, Federal Employees' Compensation File, 58 FR 49548, 49556, September 23, 1993, amended 59 FR 47361, September 15, 1994. OWCP's file contains relevant data for approximately 2300 individuals who are receiving workers' compensation benefits based on their TVA employment.

The TVA system of records published as TVA-9, Medical Records System, 55 FR 34816, 34823, August 24, 1990. TVA receives data for approximately 16,000 TVA employees who file claims, or who have claims filed on their behalf, for medical plan reimbursement. Records from the match will be included in TVA-31, OIG Investigative Records.

E. Inclusive Dates of the Matching Program

This program will begin 40 days after a copy of this agreement is sent to Congress. The match initially will cover the period January 1, 1998 to December 31, 2000. Thereafter, it will be conducted periodically for 18 months and may be renewed for another 12 months.

Jacklyn J. Stephenson,
Senior Manager, Enterprise Operations, Information Services.

[FR Doc. 01-11870 Filed 5-10-01; 8:45 am]

BILLING CODE 8120-08-U